DEPARTMENT OF THE INTERIOR

National Park Service

Intent To Prepare an Environmental Impact Statement for the General Management Plan/Wilderness Study, Ozark National Scenic Riverways, Missouri

AGENCY: National Park Service, Department of the Interior.

ACTION: Notice.

SUMMARY: Under the provisions of the National Environmental Policy Act of 1969 (42 U.S.C. 4321 et seq.), the National Park Service (NPS) is preparing an environmental impact statement (EIS) for a General Management Plan/Wilderness Study (GMP/WS) for Ozark National Scenic Riverways (Riverways). The GMP/WS will prescribe the resource conditions and visitor experiences that are to be achieved and maintained in the Riverways over the next 15 to 20 years.

DATES: To be most helpful to the scoping process, comments should be received within 60 days from the date this notice is published in the Federal Register. Public meetings regarding the GMP/WS will be held in September 2006. Please check local media, the park's Web site, http://www.nps.gov/ozar; the NPS's Planning, Environment and Public Comment (PEPC) Web site http://parkplanning.nps.gov; or contact the Superintendent to find our when and where these meetings will be held.

ADDRESSES: Additionally, if you wish to comment on any issues associated with the GMP/WS, you may submit your comments by any one of several methods. You may mail comments to Superintendent, Ozark National Scenic Riverways, 404 Watercress Drive, P.O. Box 490, Van Buren, Missouri 63965. You may provide comments electronically by entering them into the PEPC Web site at the address above. Finally, you may hand-deliver comments to the Riverways headquarters located off of Business Highway 60 on Watercress Drive in Van Buren, Missouri. Information will be available for public review and comment from the Office of the Superintendent, 404 Watercress Drive, P.O. Box 490, Van Buren, Missouri 63965.

FOR FURTHER INFORMATION CONTACT: Superintendent Noel Poe, Ozark National Scenic Riverways, 404 Watercress Drive, P.O. Box 490, Van Buren, Missouri 63965, telephone, 573-323-4236.

SUPPLEMENTARY INFORMATION: As stated above, the GMP/WS will prescribe the resource conditions and visitor experiences that are to be achieved and maintained in the Riverways over the next 15 to 20 years. The clarification of what must be achieved according to law and policy will be based on review of the Riverways' purpose, significance, special mandates, and the body of laws and policies directing park management. Based on determinations of desired conditions, the GMP/WS will outline the kinds of resource management activities, visitor activities, development that would be appropriate in the future, and consider whether or not wilderness should be proposed in a portion of the Riverways. A range of reasonable management alternatives will be developed through this planning process and will include, at minimum, a no-action and a preferred alternative. To facilitate sound analysis of environmental impacts, the NPS is gathering information necessary for the preparation of an associated EIS.

As part of the planing process, the NPS is also preparing a WS to evaluate the Big Spring area at the Riverways for possible designation as wilderness. The Big Spring area was one of three areas evaluated for wilderness suitability as part of the 1984 GMP. All three areas were determined not suitable at the conclusion of the suitability assessment. The Big Spring area is now considered suitable because non-conforming uses have been removed. The other two areas considered in 1984, the Upper Jacks Fork and Cardareva areas are not being considered for wilderness designation because of continuing non-conforming uses and the presence of non-Federal land ownership, respectively.

Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses and from individuals identifying themselves as representatives of or officials of organizations or businesses, available for public inspection in their entirety.

Dated: July 13, 2006.
David N. Given,
Acting Regional Director, Midwest Region.

[FR Doc. 06-9521 Filed 12-4-06; 8:45 am]

BILLING CODE 4310-AD-M